DEPARTMENT OF COMMERCE

Bureau of Industry and Security

Action Affecting Privileges; Mohammad Fazeli; In the Matter of: Mohammad Fazeli, 1439 Saltair Fazeli Ave., Los Angeles, CA 90025; and With an Address at: 112 West 9th Street, Suite 1115, Los Angeles, CA 90015

Order Denying Export Privileges

A. Denial of Export Privileges of Mohammad Fazeli

On August 7, 2006, in the U.S. District Court in the Central District of California, following a plea of guilty, Mohammad Fazeli (“Fazeli”) was convicted of violating the International Emergency Economic Powers Act (50 U.S.C. 1701-1705 (2000)) (“IEEPA”). Fazeli pled guilty to willfully attempting to export 103 Honeywell pressure sensors to Iran, through the United Arab Emirates, without the license required from the United States Department of Treasury, Office of Foreign Assets Control.

Fazeli was sentenced to one year and a day of imprisonment followed by two years of supervised release and fined $3,000. He was released from prison on July 9, 2007.

Section 11(h) of the Export Administration Act of 1979, as amended (currently codified at 50 U.S.C. app. 2401-2420 (2000)) (“Act”) ¹ and § 766.25 of the Export Administration Regulation ² (“Regulations”) provide, in pertinent part, that “[t]he Director of the Office of Exporter Services, in consultation with the Director of the Office of Export Enforcement, may deny the export privileges of any person who has been convicted of a violation of * * * any regulation, license or order issued under the International Emergency Economic Powers Act,” for a period not to exceed 10 years from the date of conviction. 15 CFR 766.25(a) and (d). In addition, § 750.8 of the Regulations states that Bureau of Industry's (“BIS”) Office of Exporter Services may revoke any BIS licenses previously issued in which the person had an interest in at the time of his conviction.

¹ Since August 21, 2001, the Act has been in lapse and the President, through Executive Order 13222 of August 17, 2001 (3 CFR, 2001 Comp. 783 (2002)), as extended by the Notice of August 15, 2007 (72 FR 46137, Aug. 16, 2007), has continued the Regulations in effect under the International Emergency Economic Powers Act (50 U.S.C. 1701-1706 (2000)) (“IEEPA”).

² The Regulations are currently codified at 15 CFR Parts 730-774 (2007).

I have received notice of Fazeli's conviction for violating the IEEPA, and have provided notice and an opportunity for Fazeli to make a written submission to the Bureau of Industry and Security as provided in § 766.25 of the Regulations. Having received no submission from Fazeli, I, following consultations with the Office of Export Enforcement, including the Director, Office of Export Enforcement, have decided to deny Fazeli's export privileges under the Regulations for a period of six years from the date of Fazeli's conviction.

Accordingly, it is hereby ordered:

I. Until August 7, 2012, Mohammad Fazeli, 1439 Saltair Fazeli Ave., Los Angeles, CA 90025, and with an address at: 112 West 9th Street, Suite 1115, Los Angeles, CA 90015 and when acting for or on behalf of Fazeli, his representatives, assigns, agents, or employees, (collectively referred to hereinafter as the “Denied Person”) may not, directly or indirectly, participate in any way in any transaction involving any commodity, software or technology (hereinafter collectively referred to as “item”) exported or to be exported from the United States that is subject to the Regulations, or in any other activity subject to the Regulations, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the Regulations, or in any other activity subject to the Regulations; or

C. Benefiting in any way from any transaction involving any item exported or to be exported from the United States that is subject to the Regulations, or in any other activity subject to the Regulations.

II. No person may, directly or indirectly, do any of the following:

A. Export or reexport to or on behalf of the Denied Person any item subject to the Regulations;

B. Take any action that facilitates the acquisition or attempted acquisition by the Denied Person of the ownership, possession, or control of any item subject to the Regulations that has been or will be exported from the United States, including financing or other support activities related to a transaction whereby the Denied Person acquires or attempts to acquire such ownership, possession or control;

C. Take any action to acquire from or to facilitate the acquisition or attempted acquisition from the Denied Person of any item subject to the Regulations that has been exported from the United States;

D. Obtain from the Denied Person in the United States any item subject to the regulations with knowledge or reason to know that the item will be, or is intended to be, exported from the United States; or

E. Engage in any transaction to service any item subject to the Regulations that has been or will be exported from the United States and which is owned, possessed or controlled by the Denied Person, or service any item, of whatever origin, that is owned, possessed or controlled by the Denied Person if such service involves the use of any item subject to the Regulations that has been or will be exported from the United States. For purposes of this paragraph, servicing means installation, maintenance, repair, modification or testing.

III. After notice and opportunity for comment as provided in § 766.23 of the Regulations, any other person, firm, corporation, or business organization related to Mohammad Fazeli by affiliation, ownership, control, or position of responsibility in the conduct of trade or related services may also be made subject to the provision of this Order.

IV. This Order does not prohibit any export, reexport, or other transaction subject to the Regulations where the only items involved that are subject to the Regulations are foreign-produced direct product of U.S.-origin technology.

V. This Order is effective immediately and shall remain in effect until August 7, 2012.

VI. In accordance with Part 756 of the Regulations, Fazeli may file an appeal of this Order with the Under Secretary of Commerce for Industry and Security. The appeal must be filed within 45 days from date of this Order and must comply with the provisions of Part 756 of the Regulations.

VII. A copy of this Order shall be delivered to Fazeli. This Order shall be published in the Federal Register.

Dated: September 12, 2007.
Eileen M. Albanese,
Director, Office of Exporter Services.

[FR Doc. 07-4717 Filed 9-24-07; 8:45 am]

BILLING CODE 3510-DT-M